DEPARTMENT OF COMMERCE

International Trade Administration

A-580-836

Certain Cut-to-Length Carbon-Quality Steel Plate Products from the Republic of Korea: Extension of Time Limit for Preliminary Results of Antidumping Duty Administrative Review

AGENCY: Import Administration, International Trade Administration, Department of Commerce.

EFFECTIVE DATE: October 21, 2008.

FOR FURTHER INFORMATION CONTACT: Lyn Johnson or Minoo Hatten, AD/CVD Operations, Office 5, Import Administration, International Trade Administration, U.S. Department of Commerce, 14th Street and Constitution Avenue, NW, Washington, DC 20230; telephone: (202) 482-5287 or (202) 482-1690, respectively.

SUPPLEMENTARY INFORMATION:

Background

At the request of interested parties, the Department of Commerce (the Department) initiated an administrative review of the antidumping duty order on certain cut-to-length carbon-quality steel plate products from the Republic of Korea for the period February 1, 2007, through January 31, 2008. See Initiation of Antidumping and Countervailing Duty Administrative Reviews, Request for Revocation in Part, and Deferral of Administrative Review, 73 FR 16837 (March 31, 2008). The preliminary results of this administrative review are currently due no later than October 31, 2008.

Extension of Time Limit for Preliminary Results

Section 751(a)(3)(A) of the Tariff Act of 1930, as amended (the Act), requires the Department to make a preliminary determination within 245 days after the last day of the anniversary month of an order for which a review is requested and a final determination within 120 days after the date on which the preliminary determination is published. If it is not practicable to complete the review within these time periods, section 751(a)(3)(A) of the Act allows the Department to extend the time limit for the preliminary results to a maximum of 365 days after the last day of the anniversary month. See also 19 CFR 351.213(h).

We determine that it is not practicable to complete the preliminary results of this review by the current deadline of October 31, 2008, for several reasons. Specifically, the Department has granted the respondent, Dongkuk Steel Mill Co., Ltd. (DSM), several extensions to respond to the original and supplemental questionnaires.¹ Thus, the Department requires additional time to review and analyze the sales and cost responses submitted by DSM. Further, the Department requires additional time to review issues such as corporate affiliations and to analyze the changes in DSM's product-coding system as it will affect the Department's matching methodology in this case. Therefore, we are extending the time period for issuing the preliminary results of this review by 45 days until December 15, 2008.

¹ See, e.g., letter to Dongkuk Steel Mill Co., Ltd., from Laurie Parkhill, dated August 28, 2008.

This notice is published in accordance with sections 751(a)(3)(A) and 777(i)(1) of the Act and 19 CFR 351.213(h)(2).

Dated: October 14, 2008.
Stephen J. Claeys,
Deputy Assistant Secretary for Import Administration

[FR Doc. E8-25033 Filed 10-20-08; 8:45 am]

BILLING CODE 3510-DS-S